DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2023 Semiannual Agenda of Regulations

AGENCY: Office of the Secretary, Commerce.

ACTION: Semiannual Regulatory Agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the spring 2023 agenda. The purpose of the Agenda is to provide information to the public on regulations that are currently under review, being proposed, or recently issued by Commerce. It is expected that this information will enable the public to participate more effectively in the Department's regulatory process.

Commerce's fall 2023 regulatory agenda includes regulatory activities that are expected to be conducted during the period November 1, 2023, through October 31, 2024.

FOR FURTHER INFORMATION CONTACT:

Specific: For additional information about specific regulatory actions listed in the agenda, contact the individual identified as the contact person.

General: Comments or inquiries of a general nature about the agenda should be directed to Candida Harty, Chief Counsel for Regulation, Office of the Assistant General Counsel for Legislation and Regulation, U.S. Department of Commerce, Washington, DC 20230, telephone: 202-482-3410.

SUPPLEMENTARY INFORMATION: Commerce hereby publishes its fall 2023 Unified Agenda of Federal Regulatory and Deregulatory Actions pursuant to Executive Order 12866 and the Regulatory Flexibility Act, 5 U.S.C. 601 et seq. Executive Order 12866 requires agencies to publish an agenda of those regulations that are under consideration. By memorandum of July 19, 2023, the Office of Management and Budget issued guidelines and procedures for the preparation and publication of the fall 2023 Unified Agenda. The Regulatory Flexibility Act requires agencies to publish, in the spring and fall of each year, a regulatory flexibility agenda that contains a brief description of the subject of any rule likely to have a significant economic impact on a substantial number of small entities.

The internet is the basic means for disseminating the Unified Agenda. The complete Unified Agenda is available online at www.reginfo.gov, in a format that offers users a greatly enhanced ability to obtain information from the Agenda database.

In this edition of Commerce's regulatory agenda, a list of the most important significant regulatory and deregulatory actions and a Statement of Regulatory Priorities are included in the Regulatory Plan, which appears in both the online Unified Agenda and in part II of the issue of the Federal Register that includes the Unified Agenda.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for the fisheries within their respective areas in the EEZ. Membership of these Councils is comprised of representatives of the commercial and recreational fishing sectors in addition to environmental, academic, and government interests. Council members are nominated by the governors and ultimately appointed by the Secretary of Commerce. The Councils are required by law to conduct public hearings on the development of FMPs and FMP amendments. Consistent with applicable law, environmental and other analyses are developed that consider alternatives to proposed actions.

Pursuant to the Magnuson-Stevens Act, the Councils also recommend actions to NMFS deemed necessary or appropriate to implement FMPs. The proposed regulations, FMPs, and FMP amendments are subject to review and approval by NMFS, based on consistency with the Magnuson-Stevens Act and other applicable law. The Council process for developing FMPs and amendments makes it difficult for NMFS to determine the significance and timing of some regulatory actions under consideration by the Councils at the time the semiannual regulatory agenda is published.

Commerce's fall 2023 regulatory agenda follows.

Leslie Kiernan,
General Counsel.

General Administration—Proposed Rule Stage
Sequence No. | Title | Regulation Identifier No.
255 | Securing the Information and Communications Technology and Services Supply Chain: Licensing Procedures | 0605-AA60

General Administration—Final Rule Stage
Sequence No. | Title | Regulation Identifier No.
256 | Securing the Information and Communications Technology and Services Supply Chain | 0605-AA51

International Trade Administration—Final Rule Stage
Sequence No. | Title | Regulation Identifier No.
257 | Procedures Covering Suspension of Liquidation, Duties and Estimated Duties in Accord With Presidential Proclamation 10414 | 0625-AB21

Bureau of Industry and Security—Proposed Rule Stage
Sequence No. | Title | Regulation Identifier No.
258 | Taking Additional Steps to Address the National Emergency With Respect to Significant Malicious Cyber-Enabled Activities | 0694-AJ35

National Oceanic and Atmospheric Administration—Proposed Rule Stage
Sequence No. | Title | Regulation Identifier No.
259 | Designation of Critical Habitat for Threatened Indo-Pacific Reef-Building Corals | 0648-BJ52
260 | Illegal, Unreported, and Unregulated Fishing; Fisheries Enforcement; High Seas Driftnet Fishing Moratorium Protection Act (Reg Plan Seq No. 13) | 0648-BG11
261 | Amendment 126 to the Fishery Management Plans for Groundfish of the Bering Sea/Aleutian Islands Management Area and Amendment 114 to the Fishery Management Plan for Groundfish of the Gulf of Alaska | 0648-BM40
262 | Amendment 16 to the Fishery Management Plan for the Salmon Fisheries in the EEZ Off Alaska; Cook Inlet | 0648-BM42
263 | Atlantic Coastal Fisheries Cooperative Management Act Provisions; American Lobster Fishery Vessel Tracking for the Federal American Lobster Fishery | 0648-BM38
264 | Atlantic Highly Migratory Species; Electronic Reporting Requirements | 0648-BM23
265 | International Fisheries; South Pacific Tuna Fisheries; Implementation of Amendments to the South Pacific Tuna Treaty | 0648-BG04
266 | Amendment 56 to the Fishery Management Plan for the Reef Fish Resources of the Gulf of Mexico: Modifications to Catch Limits, Sector Allocation, and Recreational Fishing Seasons for Gulf of Mexico Gag | 0648-BM46
267 | Notice of Proposed Rulemaking for the Designation Pacific Remote Islands National Marine Sanctuary | 0648-BM52
References in boldface appear in The Regulatory Plan in part II of this issue of the Federal Register.

National Oceanic and Atmospheric Administration—Final Rule Stage
Sequence No. | Title | Regulation Identifier No.
268 | Designation of Critical Habitat for the Threatened Caribbean Corals | 0648-BG26
269 | Amendments to the North Atlantic Right Whale Vessel Strike Reduction Rule (Reg Plan Seq No. 14) | 0648-BI88
270 | Establishment of Time-Area Closures for Hawaiian Spinner Dolphins Under the Marine Mammal Protection Act | 0648-BK04
271 | Designation of Critical Habitat for Nassau Grouper Under the Endangered Species Act | 0648-BL53
272 | Designation of Marine Critical Habitat for Six Distinct Population Segments of Green Sea Turtles Under the Endangered Species Act | 0648-BL82
273 | Designation of Critical Habitat for Rice's Whale Under the Endangered Species Act | 0648-BL86
274 | Atlantic Large Whale Take Reduction Plan Modifications to Reduce Serious Injury and Mortality of Large Whales in Commercial Trap/Pot Fisheries Along the U.S. East Coast | 0648-BM31
275 | Amendment 123 to the Fishery Management Plan for Groundfish of the Bering Sea and Aleutian Islands Management Area; Halibut Abundance-Based Management of Amendment 80 Prohibited Species Catch Limit | 0648-BL42
276 | Framework Adjustment 65 to the Northeast Multispecies Fishery Management Plan | 0648-BL95
277 | Atlantic Highly Migratory Species; Research and Data Collection in Support of Spatial Fisheries Management | 0648-BI10
278 | Atlantic Highly Migratory Species; Prohibiting Retention of Oceanic Whitetip Sharks in U.S. Atlantic Waters and Hammerhead Sharks in the Caribbean Sea | 0648-BK54
279 | Atlantic Highly Migratory Species; Amendment 16 to the 2006 Consolidated Atlantic Highly Migratory Species Fishery Management Plan | 0648-BM08
280 | International Fisheries; Western and Central Pacific Fisheries for Highly Migratory Species; Fishing Effort Limits in Purse Seine Fisheries | 0648-BL25
281 | Amendment 51 to the Fishery Management Plan for the Snapper-Grouper Fishery of the South Atlantic Region (Amendment 51) | 0648-BM03
References in boldface appear in The Regulatory Plan in part II of this issue of the Federal Register.

National Oceanic and Atmospheric Administration—Long-Term Actions
Sequence No. | Title | Regulation Identifier No.
282 | Magnuson-Stevens Fisheries Conservation and Management Act; Traceability Information Program for Seafood | 0648-BH87
283 | Seafood Import Permitting and Reporting Procedures | 0648-BK85
284 | Rulemaking to Modify the 2023-2027 Halibut Individual Fishing Quota (IFQ) Vessel Harvest Limitations in IFQ Regulatory Areas 4A, 4B, 4C, and 4D | 0648-BM18

National Oceanic and Atmospheric Administration—Completed Actions
Sequence No. | Title | Regulation Identifier No.
285 | Amendment 14 to the Fishery Management Plan for the Salmon Fisheries in the EEZ Off Alaska | 0648-BK31
286 | Amendment 122 to the Fishery Management Plan for Groundfish of the Bering Sea and Aleutian Islands Management Area; Pacific Cod Trawl Cooperative Program | 0648-BL08
287 | Atlantic Coastal Fisheries Cooperative Management Act Provisions; American Lobster Fishery; Consideration of Expanded Harvester and Biological Sampling Requirements for American Lobster | 0648-BF01
288 | Atlantic Highly Migratory Species; Atlantic Bluefin Tuna General Category Restricted-Fishing Days for 2023 | 0648-BL94
289 | Fish Aggregating Device Design Requirements in Purse Seine Fisheries, IMO Number Requirements, and Bycatch Restrictions | 0648-BI79
290 | Interim Measures to Reduce Overfishing of Gulf of Mexico Gag | 0648-BL89
291 | Amendment 54 to the Fishery Management Plan for the Reef Fish Resources of the Gulf of Mexico: Modifications to the Greater Amberjack Catch Limits, Sector Allocation, and Rebuilding Plan | 0648-BM00
292 | Amendment 53 to the Fishery Management Plan for the Snapper-Grouper Fishery of the South Atlantic Region (Amendment 53) | 0648-BM27
293 | Regulatory Amendment to the Pacific Coast Groundfish Fishery Management Plan to Implement an Electronic Monitoring Program for Bottom Trawl and Non-Whiting Midwater Trawl Vessels | 0648-BH70
294 | 2023 Pacific Whiting Harvest Specifications and Interim Tribal Allocation; Pacific Coast Groundfish | 0648-BM07

Patent and Trademark Office—Proposed Rule Stage
Sequence No. | Title | Regulation Identifier No.
295 | Setting and Adjusting Patent Fees (Reg Plan Seq No. 17) | 0651-AD64
296 | Setting and Adjusting Trademark Fees (Reg Plan Seq No. 18) | 0651-AD65
References in boldface appear in The Regulatory Plan in part II of this issue of the Federal Register.

DEPARTMENT OF COMMERCE (DOC)

General Administration (ADMIN)

Proposed Rule Stage

255. Securing the Information and Communications Technology and Services Supply Chain: Licensing Procedures [0605-AA60]

Legal Authority: Not Yet Determined

Abstract: The Department is seeking public input regarding establishing a licensing process for entities to seek pre-approval before engaging in or continuing to engage in potentially regulated ICTS Transactions under the “Securing the Information and Communications Technology and Services Supply Chain” rule.

Timetable:

Action | Date | FR Cite
ANPRM | 03/29/21 | 86 FR 16312
ANPRM Comment Period End | 04/28/21
NPRM | 11/00/23

Regulatory Flexibility Analysis Required: Yes.

Agency Contact: Katelyn Christ, Department of Commerce, 1401 Constitution Avenue, Washington, DC 20230, Phone: 202 482-3064, Email: katelyn.christ@bis.doc.gov.

RIN: 0605-AA60

DEPARTMENT OF COMMERCE (DOC)

General Administration (ADMIN)

Final Rule Stage

256. Securing the Information and Communications Technology And Services Supply Chain [0605-AA51]

Legal Authority: 50 U.S.C. 1701; 3 U.S.C. 301

Abstract: Pursuant to Executive Order 13873 of May 15, 2019, “Securing the Information and Communications Technology and Services Supply Chain,” (Executive Order) the Department of Commerce (the Department) is implementing the process and procedures that the Secretary of Commerce (Secretary) will use to identify, assess, and address transactions that pose an undue risk to the security, integrity, and reliability of information and communications technology and services provided and used in the United States.

Timetable:

Action | Date | FR Cite
NPRM | 11/27/19 | 84 FR 65316
NPRM Comment Period End | 12/27/19
Interim Final Rule | 01/19/21 | 86 FR 4909
Interim Final Rule Comment Period End | 03/22/21
Interim Final Rule Effective Date | 03/22/21
Final Action | 11/00/23

Regulatory Flexibility Analysis Required: Yes.

Agency Contact: Katelyn Christ, Department of Commerce, 1401 Constitution Avenue, Washington, DC 20230, Phone: 202 482-3064, Email: katelyn.christ@bis.doc.gov.

RIN: 0605-AA51

DEPARTMENT OF COMMERCE (DOC)

International Trade Administration (ITA)

Final Rule Stage

257. Procedures Covering Suspension of Liquidation, Duties and Estimated Duties in Accord With Presidential Proclamation 10414 [0625-AB21]

Legal Authority: Proc 10414, 87 FR 35067; 19 U.S.C. 1318

Abstract: In accordance with Presidential Proclamation 10414 and pursuant to its authority under Section 318(a) of the Tariff Act of 1930, as amended (the Act), the Department of Commerce (Commerce) is issuing this final rule to implement Proclamation 10414. Specifically, Commerce is issuing a new rule that, in the event of an affirmative preliminary or final determination in the antidumping and countervailing duty (AD/CVD) circumvention inquiries described below, under Title VII of the Act, extends the time for, and waives, the suspension of liquidation, the application of certain AD/CVD duties, and the collection of cash deposits on applicable entries of certain crystalline silicon photovoltaic cells, whether or not assembled into modules, that are completed in the Kingdom of Cambodia (Cambodia), Malaysia, the Kingdom of Thailand (Thailand), and the Socialist Republic of Vietnam (Vietnam) using parts and components manufactured in the People's Republic of China (China), and that are not already subject to an antidumping or countervailing duty order.

Timetable:

Action | Date | FR Cite
NPRM | 07/01/22 | 87 FR 39426
NPRM Comment Period End | 08/01/22
Final Action | 09/16/22 | 87 FR 56868
Final Action Effective | 11/15/22
Next Action Undetermined | 11/00/23

Regulatory Flexibility Analysis Required: Yes.

Agency Contact: Nikki Kalbing, Department of Commerce, International Trade Administration, Washington, DC 20230, Phone: 202 717-3147, Email: nikki.kalbing@trade.gov.

RIN: 0625-AB21

DEPARTMENT OF COMMERCE (DOC)

Bureau of Industry and Security (BIS)

Proposed Rule Stage

258. • Taking Additional Steps To Address the National Emergency With Respect to Significant Malicious Cyber-Enabled Activities [0694-AJ35]

Legal Authority: 50 U.S.C. 1701 et seq.; 50 U.S.C. 1601 et seq.; E.O. 13873, 84 FR 22689; E.O. 13984, 86 FR 6837

Abstract: Executive Order 13984 of January 19, 2021, Taking Additional Steps To Address the National Emergency With Respect to Significant Malicious Cyber-Enabled Activities, (E.O. 13984 or the E.O.) directs the Secretary of Commerce (Secretary) to propose regulations requiring certain providers and resellers of certain Infrastructure as a Service (IaaS) products to verify the identity of their foreign customers permitting the Secretary, in consultation with Secretary of Defense, the Attorney General, the Secretary of Homeland Security, and the Director of National Intelligence, to grant exemptions to the verification requirement; and authorizing the Secretary to impose special measures on providers with regard to certain foreign jurisdictions or foreign persons. The Department of Commerce (Department) issues this notice of proposed rulemaking (NPRM) to solicit comment on proposed regulations to implement Sections 1, 2, and 5 of E.O. 13984.

Timetable:

Action | Date | FR Cite
NPRM | 11/00/23

Regulatory Flexibility Analysis Required: Yes.

Agency Contact: Katelyn Christ, Department of Commerce, 1401 Constitution Avenue, Washington, DC 20230, Phone: 202 482-3064, Email: katelyn.christ@bis.doc.gov.

RIN: 0694-AJ35

DEPARTMENT OF COMMERCE (DOC)

National Oceanic and Atmospheric Administration (NOAA)

Proposed Rule Stage

National Marine Fisheries Service

259. Designation of Critical Habitat for Threatened Indo-Pacific Reef-Building Corals [0648-BJ52]

Legal Authority: 16 U.S.C. 1531 et seq.

Abstract: On November 27, 2020, we, NMFS, published in the Federal Register a proposal to designate 17 island units of critical habitat in the Pacific Islands Region for 7 Indo-Pacific coral species listed under the Endangered Species Act (ESA). Based on public comments and new information regarding the interpretation of the records of the listed corals and application to critical habitat, a substantial revision of the proposed rule is warranted. Accordingly, we are withdrawing the 2020 proposed rule and publishing this new proposed rule. We propose to designate critical habitat for five of the seven coral species that were addressed in the 2020 proposed rule: Acropora globiceps, Acropora retusa, Acropora speciosa, Euphyllia paradivisa, and Isopora crateriformis. Proposed critical habitat includes 16 island units encompassing approximately 251 square kilometers (km2; 97 square miles, mi2) of marine habitat. In the development of this proposed rule, NMFS considered economic, national security, and other relevant impacts of the proposed designations, but we are not proposing to exclude any areas from the critical habitat designations due to anticipated impacts.

Timetable:

Action | Date | FR Cite
NPRM | 11/27/20 | 85 FR 76262
NPRM Comment Period End | 01/26/21
NPRM Comment Period Extended | 12/23/20 | 85 FR 83899
NPRM Comment Period Extended End | 02/25/21
Second NPRM Comment Period Extended | 02/09/21 | 86 FR 8749
Second Extended Comment Period End | 03/27/21
Third NPRM Comment Period Extended | 03/29/21 | 86 FR 16325
Third NPRM Comment Period Extended End | 05/26/21
Second NPRM | 11/00/23

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BJ52

260. Illegal, Unreported, and Unregulated Fishing; Fisheries Enforcement; High Seas Driftnet Fishing Moratorium Protection Act [0648-BG11]

Regulatory Plan: This entry is Seq. No. 13 in part II of this issue of the Federal Register.

RIN: 0648-BG11

261. • Amendment 126 to the Fishery Management Plans for Groundfish of the Bering Sea/Aleutian Islands Management Area and Amendment 114 to the Fishery Management Plan for Groundfish of the Gulf of Alaska [0648-BM40]

Legal Authority: 16 U.S.C. 1801 et seq.

Abstract: In response to a recommendation by the North Pacific Fishery Management Council, this proposed rule would implement electronic monitoring for catcher vessels using pelagic trawl gear to harvest pollock and tender vessels delivering to processing plants in the Gulf of Alaska and the Bering Sea. The proposed action would implement a voluntary monitoring option that would allow a vessel to elect to use an electronic monitoring system accompanied by shoreside observers for biological data collections instead of carrying an at-sea observer under the North Pacific Observer Program. The purpose of this action is to advance cost efficiency and compliance monitoring through improved salmon accounting and reduced monitoring costs. This proposed action is needed to modify the current retention and discard requirements to allow participating catcher vessels to maximize retention of all species caught for the use of electronic monitoring as a compliance tool on trawl catcher vessels in the North Pacific Observer Program and meet monitoring objectives on trawl catcher vessels in the Bering Sea and Gulf of Alaska pelagic pollock fisheries. This proposed action will likely affect catcher vessels, tenders, and shoreside processors participating in the directed pelagic trawl pollock fishery in the Bering Sea and Gulf of Alaska. For this proposed action, NMFS uses authority under Section 304(b)(1)(A) and Section 313 of the Magnuson-Stevens Fishery Conservation and Management Act. The Council and NMFS developed the elements of this rule over several years based on feedback and public involvement in the North Pacific Fishery Management Council's Trawl Electronic Monitoring Committee process. NMFS will also hold public hearings in the states of Washington, Oregon, and Alaska to receive additional public input during the comment period on the proposed rule.

Timetable:

Action | Date | FR Cite
NPRM | 11/00/23

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BM40

262. • Amendment 16 to the Fishery Management Plan for the Salmon Fisheries in the EEZ Off Alaska; Cook Inlet [0648-BM42]

Legal Authority: 16 U.S.C. 1801 et seq.

Abstract: If approved, this action (Amendment 16) would incorporate the Cook Inlet EEZ into the Alaska Salmon FMP, thereby bringing the Cook Inlet EEZ and the salmon fisheries that occur within it under Federal management by the North Pacific Fishery Management Council (Council) and NMFS. Previously, the Cook Inlet EEZ was not included in a Federal fishery management plan (FMP), deferring management to the State of Alaska (State). Commercial fishermen challenged this as inconsistent with the Magnuson-Stevens Act (MSA). Ultimately, the Ninth Circuit held that the Cook Inlet EEZ must be included in an FMP. The Council previously took action to address this issue in 2020 and NMFS implemented their recommendation as Amendment 14, which closed the Federal area to commercial salmon fishing. Amendment 14 was challenged by commercial fishermen and vacated. A new amendment addressing the area must be promulgated by May 1, 2024. Four management alternatives were considered: (1) no action, (2) delegating management authority to the State consistent with the MSA, (3) Federal management, and (4) Federal management that closes the area to commercial salmon fishing. Alternatives 1 and 4 were not viable given the court rulings, and the State would not accept delegated management. This left Alternative 3 as the only viable alternative. However, the Council did not take action and, NMFS must now take action through a Secretarial FMP amendment pursuant to MSA section 304(c) to meet the court's deadline. NMFS will implement Alternative 3 to federally manage all salmon fishing in the Cook Inlet EEZ. Federal management may reduce commercial salmon harvest in the EEZ area as a result of increased scientific and management uncertainty. Additional litigation is expected from commercial fishermen. NMFS developed the elements of this rule with input from the public during two North Pacific Fishery Management Council meetings, a virtual public hearing, and multiple meetings and consultations with Tribal entities.

Timetable:

Action | Date | FR Cite
NPRM | 10/19/23 | 88 FR 72314
NPRM Comment Period End | 12/18/23
Final Action | 01/00/24

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BM42

263. • Atlantic Coastal Fisheries Cooperative Management Act Provisions; American Lobster Fishery Vessel Tracking for the Federal American Lobster Fishery [0648-BM38]

Legal Authority: 16 U.S.C. 71

Abstract: The Atlantic States Marine Fisheries Commission, the body responsible for the interstate management of the American lobster fishery, recently approved Addendum XXIX to Amendment 3 to the Interstate Fishery Management Plan for American Lobster, which requires electronic tracking of vessels participating in the fishery, with state implementation beginning in 2023. The Commission is made up of representatives from each of the eastern coastal states, including members of the lobster industry, and voted unanimously in support of vessel tracking, which is similar to global positioning system (GPS) capabilities on a cellular/mobile telephone. These data are critical to improving stock assessments, informing discussions and management decisions related to protected species and marine spatial planning, and enhancing offshore enforcement. NOAA Fisheries is proposing complementary Federal regulations under the Atlantic Coastal Fisheries Cooperative Management Act, this would consider revising to regulations under 50 CFR 697. Federal fiscal year 2022 appropriations included approximately $14 million in assistance for lobster permit holders to comply with recent North Atlantic right whale risk reduction measures, including implementing electronic tracking requirements within the Northeast lobster fishery States have indicated they intend to use a portion of this money to defray the costs associated with the vessel tracking program, either through reimbursement or the bulk purchase and distribution of devices.

Timetable:

Action | Date | FR Cite
NPRM | 11/00/23

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BM38

264. Atlantic Highly Migratory Species; Electronic Reporting Requirements [0648-BM23]

Legal Authority: 16 U.S.C. 1801 et seq.; 16 U.S.C. 971 et seq.

Abstract: Atlantic highly migratory species (HMS) are managed under the authority of the Magnuson-Stevens Fishery Conservation and Management Act, 16 U.S.C. 1801 et seq., and the Atlantic Tunas Convention Act (ATCA), id. 971 et seq., the implementing statute for binding recommendations of the International Commission for the Conservation of Atlantic Tunas. The ANPRM considered options to: (1) streamline logbook reporting by converting existing commercial paper logbooks to electronic logbooks; (2) expand logbook reporting to recreational and commercial permit holders via electronic logbooks, to be consistent with Agency efforts in other fisheries and to augment data collected for fishery management; (3) collect additional information through existing electronic reporting mechanisms for dealers and recreational permit holders to augment data collected for fishery management; and (4) facilitate HMS reporting including considering ways to incentivize reporting compliance (or penalize noncompliance) and offering an electronic reporting platform for HMS Exempted Fishing Permit Program permit holders. This action is being taken pursuant to the rulemaking authority under section 304(c) of the Magnuson-Stevens Fishery Conservation and Management Act. 16 U.S.C. 1854(c). The ANPRM comment period ended in August 2023. The comments received provide helpful feedback on the potential issues and ways forward, which are under consideration by the Agency. The Agency's proposed actions for this rulemaking will be based in part on feedback and public comments received on the ANPRM.

Timetable:

Action | Date | FR Cite
ANPRM | 05/12/23 | 88 FR 30699
ANPRM Comment Period End | 08/18/23
NPRM | 06/00/24

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BM23

265. International Fisheries; South Pacific Tuna Fisheries; Implementation of Amendments to the South Pacific Tuna Treaty [0648-BG04]

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 02/00/24

Regulatory Flexibility Analysis Required: Yes.

Agency Contact: Sarah Malloy, Acting Regional Administrator, Pacific Islands Region, Department of Commerce, National Oceanic and Atmospheric Administration, 1845 Wasp Boulevard, Building 176, Honolulu, HI 96818, Phone: 808 725-5000, Email: sarah.malloy@noaa.gov.

RIN: 0648-BG04

266. • Amendment 56 to the Fishery Management Plan for the Reef Fish Resources of the Gulf of Mexico: Modifications to Catch Limits, Sector Allocation, and Recreational Fishing Seasons for Gulf of Mexico Gag [0648-BM46]

Legal Authority: 16 U.S.C. 1801 et seq.

Abstract: Reef Fish Amendment 56 and the proposed rule would modify the status determination criteria, optimum yield, sector catch limits and catch targets and establish a rebuilding timeline for Gulf gag based on the most recent stock assessment (Southeast Data Assessment and Review (SEDAR) 72) and recommendations from the Gulf of Mexico Fishery Management Council's Scientific and Statistical Committee. The amendment and rule would also modify the recreational accountability measures and fishing season. The stock assessment indicated that Gulf gag is overfished and was undergoing overfishing as of 2019, and that a substantial reduction in the total allowable harvest is necessary to rebuild the stock. The amendment and proposed rule would also modify the allocation between the commercial and recreational sectors using adjusted recreational landings estimates. The need for this action is to use the best scientific information available to end overfishing of Gulf gag and rebuild the stock to a level commensurate with maximum sustainable yield, consistent with the requirements of the Magnuson-Stevens Fishery Conservation and Management Act.

Timetable:

Action | Date | FR Cite
NPRM | 10/18/23 | 88 FR 71812
NPRM Comment Period End | 12/18/23
Final Action | 01/00/24

Regulatory Flexibility Analysis Required: Yes.

Agency Contact: Andrew J. Strelcheck, Regional Administrator, Southeast Region, Department of Commerce, National Oceanic and Atmospheric Administration, 263 13th Avenue South, St. Petersburg, FL 33701, Phone: 727 824-5305, Email: andy.strelcheck@noaa.gov.

RIN: 0648-BM46

NOS/ONMS

267. • Notice of Proposed Rulemaking for the Designation Pacific Remote Islands National Marine Sanctuary [0648-BM52]

Legal Authority: 16 U.S.C. 1431 et seq.

Abstract: NOAA's Office of National Marine Sanctuaries is considering a proposed rule designating a national marine sanctuary in the waters surrounding the Pacific Remote Islands. This proposed rule for designation under the National Marine Sanctuaries Act would supplement the existing National Marine Monument and further protect and conserve the natural environment and cultural heritage of the Pacific Remote Islands for future generations.

Timetable:

Action | Date | FR Cite
Notice | 04/18/23 | 88 FR 23624
Comment Period End | 06/02/23
NPRM | 04/00/24

Regulatory Flexibility Analysis Required: Yes.

Agency Contact: Jessica Kondel, Policy and Planning Division Chief, Department of Commerce, National Oceanic and Atmospheric Administration, 1305 East West Highway, Building SSMC4, Silver Spring, MD 20910, Phone: 240 676-4646.

RIN: 0648-BM52

DEPARTMENT OF COMMERCE (DOC)

National Oceanic and Atmospheric Administration (NOAA)

Final Rule Stage

National Marine Fisheries Service

268. Designation of Critical Habitat for the Threatened Caribbean Corals [0648-BG26]

Legal Authority: 16 U.S.C. 1531 et seq.

Abstract: NMFS listed 5 Caribbean corals as threatened under the Endangered Species Act on October 10, 2014. Critical habitat shall be designated to the maximum extent prudent and determinable at the time a species is proposed for listing (50 CFR 424.12). We concluded that critical habitat was not determinable for the 5 corals at the time of listing. However, we anticipated that critical habitat would be determinable in the future given on-going research. We, therefore, announced in the final listing rules that we would propose critical habitat in separate rulemakings. This rule proposes to designate critical habitat for the 5 Caribbean coral species listed in 2014. A separate proposed critical habitat rule is being prepared for the 15 Indo-Pacific corals listed as threatened in 2014. The proposed designation for the Caribbean corals may include marine waters in Florida, Puerto Rico, US Virgin Islands, Navassa Island, and Flower Garden Banks containing essential features that support all stages of life history of the corals. The proposed rule is not likely to have an annual effect on the economy of $100 million or more or adversely affect the economy. NMFS has contacted the Departments of the Navy, Air Force, and Army as well as the U.S. Coast Guard requesting information related to potential national security impacts that may result from the critical habitat designation. Based on information provided, we concluded that there will be an impact on national security in only 1 area offshore Dania Beach, FL, and will propose to exclude it from the designations.

Timetable:

Action | Date | FR Cite
NPRM | 11/27/20 | 85 FR 76302
NPRM Comment Period End | 01/26/21
Final Rule | 08/09/23 | 88 FR 54026
Final Action Effective | 09/08/23
Correction | 11/00/23

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BG26

269. Amendments to the North Atlantic Right Whale Vessel Strike Reduction Rule [0648-BI88]

Regulatory Plan: This entry is Seq. No. 14 in part II of this issue of the Federal Register.

RIN: 0648-BI88

270. Establishment of Time-Area Closures for Hawaiian Spinner Dolphins Under the Marine Mammal Protection Act [0648-BK04]

Legal Authority: 16 U.S.C. 1382 et seq.

Abstract: This rulemaking action under the Marine Mammal Protection Act (MMPA) will establish mandatory time-area closures of Hawaiian spinner dolphins' essential daytime habitats at five selected sites in the Main Hawaiian Islands (MHI). In considering public comments in response to a separate proposed rule related to spinner dolphin interactions (81 FR 57854), NMFS intends these regulatory measures to prevent take of Hawaiian spinner dolphins from occurring in inshore marine areas at essential daytime habitats, and where high levels of disturbance from human activities are most prevalent.

Timetable:

Action | Date | FR Cite
NPRM | 09/28/21 | 86 FR 53844
NPRM Comment Period End | 12/27/21
Final Action | 06/00/24

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BK04

271. Designation of Critical Habitat for Nassau Grouper Under the Endangered Species Act [0648-BL53]

Legal Authority: 16 U.S.C. 1533

Abstract: This rulemaking will designate critical habitat for the threatened Nassau grouper pursuant to section 4 of the Endangered Species Act (ESA). Specific occupied areas under consideration as critical habitat for this species include approximately 2,352.27 sq. kilometers (908.22 sq. miles) of marine habitat located in waters off southeastern coast of Florida, Puerto Rico, Navassa, and the United States Virgin Islands (USVI). For this critical habitat designation, the incremental costs of the rule are anticipated to be limited to the additional administrative effort required for section 7 consultations to consider impacts to the critical habitat. We have contacted the Departments of the Navy, Air Force, and Army as well as the U.S. Coast Guard requesting information related to potential national security impacts that may result from the critical habitat designation. Based on information they provided, national security impacts are not expected to arise as a result of this rule. NMFS also contacted the Department of Defense (DoD) to determine if any areas controlled by the DoD coincide with any of the areas under consideration for critical habitat, and none were found that would result in not designating critical habitat pursuant to section 4(a)(3)(B)(i) of the ESA. This rule is consistent with existing critical habitat regulations in the application of the ESA.

Timetable:

Action | Date | FR Cite
NPRM | 10/17/22 | 87 FR 62930
NPRM Comment Period End | 12/16/22
Final Action | 12/00/23

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BL53

272. Designation of Marine Critical Habitat for Six Distinct Population Segments of Green Sea Turtles Under the Endangered Species Act [0648-BL82]

Legal Authority: 16 U.S.C. 1533

Abstract: In 2012, NMFS and U.S. Fish and Wildlife Service (USFWS; collectively, the Services) were petitioned to identify and list distinct population segments (DPSs) of green sea turtles under section 4 of the Endangered Species Act (ESA; 16 U.S.C. 1533). In 2016, the Services listed six DPSs of green sea turtles occurring in U.S. waters, which triggered the requirement, under ESA section 4, to designate critical habitat to the maximum extent prudent and determinable for those DPSs. The Services did not do so within the statutory deadline, and subsequently entered into a settlement agreement to submit to the Office of the Federal Register for publication a proposed determination concerning the designation of critical habitat for the six DPSs by June 30, 2023. The rule would propose to designate critical habitat containing reproductive, migratory, foraging and resting features in waters from 0 to 20 m depth. The economic impact will affect Federal agencies, who are required under section 7 of the ESA to consult with the Services on their actions that may affect listed species and designated critical habitat. NMFS is working with the Department of Defense and Department of Homeland Security to review potential national security impacts. Regarding Broadening Public Participation and Community Engagement in the Regulatory Process, we are providing six (3 virtual, 3 in-person) public hearings. We will have Spanish at 2 virtual public hearings. Samoan, Chamorro, or Carolinian cultural liaisons are providing facilitation and translation at the 3 in-person public hearings. This is part of a pilot project meant to address requests made during the public comment period for NMFS' Equity and Environmental Justice Strategy.

Timetable:

Action | Date | FR Cite
NPRM | 07/19/23 | 88 FR 46572
NPRM Comment Period End | 10/17/23
Final Action | 07/00/24

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BL82

273. Designation of Critical Habitat for Rice's Whale Under the Endangered Species Act [0648-BL86]

Legal Authority: 16 U.S.C. 1533; 16 U.S.C. 1532

Abstract: Gulf of Mexico Bryde's whales (Balaenoptera edeni) were listed as endangered under the Endangered Species Act (ESA) by the National Marine Fisheries Service (NMFS) effective April 15, 2019 (84 FR 15446). On October 22, 2021, NMFS published a final rule that revised the listing of Gulf of Mexico Bryde's whales to reflect the scientifically accepted taxonomy and nomenclature of the species (86 FR 47022). The revised common name for this species is Rice's whale and the scientific name is Balaenoptera ricei. The ESA requires that critical habitat be designated to the maximum extent prudent and determinable at the time a species is listed (16 U.S.C. 1533(a)(3)(i)). NMFS concluded that critical habitat was not yet determinable for the Rice's whale at the time of listing. However, NMFS indicated that they anticipated critical habitat would be determinable in the future given on-going research. NMFS, therefore, announced in the final listing rule that they would propose critical habitat in a separate rulemaking. This rule proposes to designate critical habitat for the endangered Rice's whale as one specific area within the Gulf of Mexico that extends from the Texas-Mexico border in the west to the Florida Keys in the east and lies between the 100m and 400m isobaths. NMFS will consult with the Department of Defense to assess any potential national security impacts as a result of the proposed critical habitat designation.

Timetable:

Action | Date | FR Cite
NPRM | 07/24/23 | 88 FR 47453
NPRM Comment Period End | 09/22/23 |
NPRM Comment Period Extension | 10/06/23 | 88 FR 62522
Final Action | 06/00/24

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BL86

274. • Atlantic Large Whale Take Reduction Plan Modifications To Reduce Serious Injury and Mortality of Large Whales in Commercial Trap/Pot Fisheries Along the U.S. East Coast [0648-BM31]

Legal Authority: 16 U.S.C. 1387

Abstract: The National Marine Fisheries Service (NMFS) is proposing a rule under the Atlantic Large Whale Take Reduction Plan (ALWTRP or Plan) to reduce the risk of North Atlantic right whale entanglement in commercial trap/pot fisheries along the U.S. East Coast. The proposed rule would modify the boundaries of the Massachusetts Restricted Area (MRA) to include a 200 square miles area known as the MRA Wedge to fill a gap in protections that occurs during the implementation of the current closure in Federal waters from February through April every year. This small gap area was inadvertently created by a 2021 modification to an existing MRA seasonal closure to buoy lines which mirrored a state water closure enacted by Massachusetts in early 2021. The resultant gap within the MRA created an opportunity for federally permitted vessels to fish or store buoyed trap gear in the MRA Wedge at great risk of incidental mortality and serious injury of North Atlantic right whales that are seasonally abundant in surrounding waters. Empirical gear and whale sightings collected during aerial surveys of the MRA Wedge during February-April demonstrate the high entanglement risk to right whales in this area. No novel management measures or policies are proposed; this Wedge area was closed through emergency rulemaking in 2021 and 2022, and this rule proposes to permanently implement a small expansion of an existing three-month seasonal restriction to fishing with buoy lines.

Timetable:

Action | Date | FR Cite
NPRM | 09/18/23 | 88 FR 63917
NPRM Comment Period End | 10/18/23
Final Action | 12/00/23

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BM31

275. Amendment 123 to the Fishery Management Plan for Groundfish of the Bering Sea and Aleutian Islands Management Area; Halibut Abundance-Based Management of Amendment 80 Prohibited Species Catch Limit [0648-BL42]

Legal Authority: 16 U.S.C. 1801 et seq.

Abstract: In response to a recommendation by the North Pacific Fishery Management Council (Council), this proposed action would implement Amendment 123 to the Fishery Management Plan (FMP) for Groundfish of the Bering Sea and Aleutian Islands Management Area (BSAI). If approved by the Secretary of Commerce and implemented by NMFS, this action would determine the BSAI Amendment 80 commercial groundfish trawl fleet's (A80) halibut prohibited species catch (PSC) limit annually based on the most recent values from surveys conducted by the Alaska Fisheries Science Center and the International Pacific Halibut Commission (IPHC). The Council's intent in recommending Amendment 123 is to link annual halibut PSC limits in the A80 fleet with estimated halibut abundance. The reason for the change being considered is that the current PSC limit, currently set as a fixed annual amount of 1,745 mt, becomes an increasingly larger proportion of total halibut removals in the BSAI when halibut abundance declines. Over the last 6 years, the Council and its advisory bodies, stakeholders, and the public have considered several approaches for a halibut abundance-based management (ABM) program consistent with Council fishery management objectives and the Magnuson-Stevens Fishery Conservation and Management Act (MSA). Public testimony on this action over the years has focused on two primary concerns. The first is the importance of providing flexibility to the A80 fleet to prosecute their quotas. The second is concern about the decline in the directed halibut fishery catch as a result of a decline in halibut abundance, compounded by fixed PSC limits that further reduce the proportion of halibut available to the directed halibut fisheries.

Timetable:

Action | Date | FR Cite
NPRM | 12/09/22 | 87 FR 75570
NPRM Comment Period End | 01/23/23
Final Action | 11/00/23

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BL42

276. Framework Adjustment 65 to the Northeast Multispecies Fishery Management Plan [0648-BL95]

Legal Authority: 16 U.S.C. 1801 et seq.

Abstract: The action would implement management measures included in Framework Adjustment 65 to the Northeast Multispecies Fishery Management Plan (Framework 65) that were developed by the New England Fishery Management Council in response to new scientific information, pursuant to the rulemaking authorities under section 303(c) of the Magnuson-Stevens Fishery Conservation and Management Act. The action will revise the rebuilding plan for Gulf of Maine (GOM) cod, set annual specifications for fishing years (FY) 2023-2025 for 13 Northeast multispecies stocks, FY2023-2024 for Georges Bank (GB) cod, GB yellowtail flounder, FY2023 for white hake, and specify FY 2023-2024 total allowable catches (TAC) for the three U.S./Canada stocks eastern GB cod, eastern GB haddock, and GB yellowtail flounder. It would also make a temporarily modification to the accountability measures for GB cod. This rule also takes emergency action using our authority under Section 305(c) of the Magnuson-Stevens Fishery Conservation and Management Act to increase the fishing year 2023 specifications for Gulf of Maine (GOM) haddock. The purpose of this emergency action is to mitigate economic harm to industry by increasing the 2023 GOM haddock specifications.

Timetable:

Action | Date | FR Cite
NPRM | 05/31/23 | 88 FR 34810
NPRM Comment Period End | 06/15/23
Final Action | 08/18/23 | 88 FR 56527
Comment Period End | 09/18/23
Final Action Effective | 09/18/23
Next Action Undetermined | 11/00/23

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BL95

277. Atlantic Highly Migratory Species; Research and Data Collection in Support of Spatial Fisheries Management [0648-BI10]

Legal Authority: 16 U.S.C. 1801 et seq.

Abstract: This rulemaking would address conducting research in areas currently closed to fishing for Atlantic highly migratory species (HMS)—during various times or by certain gear—to collect fishery-dependent data. A number of time/area closures or gear-restricted areas have been implemented over the years through various rulemakings, limiting fishing for Atlantic highly migratory species in those areas for a variety of reasons including reducing bycatch. These time/area closures have been implemented in consultation with the HMS Advisory Panel to protect species consistent with the Magnuson-Stevens Fisheries Conservation and Management Act (e.g., to reduce bycatch in the pelagic longline fishery off the east coast of Florida), the Endangered Species Act (e.g., to protect sea turtles in the North Atlantic), and the Atlantic Tunas Convention Act (e.g., to protect spawning bluefin tuna in the Gulf of Mexico). Fishery-dependent data supports effective fisheries management, and areas that restrict fishing effort often have a commensurate decrease in fishery-dependent data collection. Programs to facilitate research and data collection, such as those that would be covered by this rulemaking, could assess the efficacy of closed areas, improve sustainable management of highly migratory species, and may provide benefits to commercial and recreational fishermen. The Agency's final actions for this rule will be based in part on feedback and public comments on the proposed rule and draft environmental impact statement, regulatory impact review (RIR), and initial regulatory flexibility analysis (IRFA). The comment period ends in September 2023. The comments received to date provide helpful feedback on the potential issues and ways forward.

Timetable:

Action | Date | FR Cite
NPRM | 05/05/23 | 88 FR 29050
NPRM Comment Period Extension | 09/08/23 | 88 FR 62044
NPRM Comment Period End | 09/15/23
NPRM Comment Period Extension End | 10/02/23
Final Action | 08/00/24

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI10

278. Atlantic Highly Migratory Species; Prohibiting Retention of Oceanic Whitetip Sharks in U.S. Atlantic Waters and Hammerhead Sharks in the Caribbean Sea [0648-BK54]

Legal Authority: 16 U.S.C. 971 et seq.; 16 U.S.C. 1801 et seq.

Abstract: Atlantic highly migratory species (HMS) fisheries are managed under the dual authority of the Magnuson-Stevens Fishery Conservation and Management Act (Magnuson-Stevens Act) and the Atlantic Tunas Convention Act (ATCA). On May 15, 2020, NOAA Fisheries issued two Biological Opinions (BiOps) under Section 7(a)(2) of the Endangered Species Act (ESA). These BiOps covered the pelagic longline fishery for Atlantic HMS and the non-pelagic longline HMS fisheries, as managed under the 2006 Consolidated Atlantic HMS Fishery Management Plan (FMP) and its amendments. The BiOps concluded that the fisheries are not likely to jeopardize the continued existence of listed species nor adversely affect their designated critical habitat. The BiOps included conservation recommendations under Section 7(a)(1) of the ESA. These conservation recommendations encouraged the prohibition of the commercial and recreational retention of both scalloped hammerhead sharks (specifically in the Southwest and Caribbean distinct population segments) and oceanic whitetip sharks, both of which are listed as threatened under the ESA. As a result, this action considers implementing this conservation recommendation. Under existing regulations, retention and possession of oceanic whitetip and all hammerhead sharks are prohibited for commercial fishermen using pelagic longline gear; this action would extend the prohibition to commercial shark permit holders using other gears and to recreational permit holders who target or catch sharks. This action is being taken pursuant to the rulemaking authority under the Magnuson-Stevens Act, sec. 304(g), and ATCA. The Agency's final actions for this rule will be based in part on public comments on the proposed rule and draft environmental assessment, RIR, and IRFA. The comments received were generally supportive of the proposed action; some commenters requested additional protections for scalloped hammerhead sharks.

Timetable:

Action | Date | FR Cite
NPRM | 03/22/23 | 88 FR 17171
NPRM Comment Period End | 05/22/23
Final Action | 12/00/23

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BK54

279. Atlantic Highly Migratory Species; Amendment 16 to the 2006 Consolidated Atlantic Highly Migratory Species Fishery Management Plan [0648-BM08]

Legal Authority: 16 U.S.C. 1801 et seq.; 16 U.S.C. 971 et seq.

Abstract: NMFS is developing a proposed rule for Amendment 16 to the 2006 Consolidated Atlantic Highly Migratory Species (HMS) Fishery Management Plan (FMP) pursuant to Magnuson-Stevens Fishery Conservation and Management Act (MSA) sections 304(c) and (g). The draft Amendment will include a draft environmental impact statement and other required analyses. Based on the mechanism used in establishing shark quotas and related management measures from Amendment 14 to the 2006 Consolidated HMS FMP, Amendment 16 would modify the acceptable biological catch (ABC) and annual catch limits (ACLs) for Atlantic sharks and the process used to account for carryover of underharvests of quotas. In this action, NMFS would also look at all commercial and recreational management measures related to the Atlantic shark fishery and make appropriate revisions. Amendment 16 would affect the bottom longline, gillnet, and pelagic longline fisheries, which fish for sharks throughout the entire range of the fishery (Atlantic Ocean, Gulf of Mexico, and Caribbean Sea). The Agency's proposed actions for this rule will be based in part on feedback and public comments received on the issues and options paper. The comment period ends in August 2023. The comments received to date provide helpful feedback on the potential issues and ways forward.

Timetable:

Action | Date | FR Cite
Notice of Intent | 05/08/23 | 88 FR 29617
Notice of Intent Comment Period End | 08/18/23
Final Action | 11/00/23

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BM08

280. International Fisheries; Western and Central Pacific Fisheries for Highly Migratory Species; Fishing Effort Limits in Purse Seine Fisheries [0648-BL25]

Legal Authority: 16 U.S.C. 6901 et seq.

Abstract: Under authority of the Western and Central Pacific Fisheries Convention Implementation Act (16 U.S.C. 6901 et seq.), NMFS is implementing fishing effort limits for the U.S. purse seine fishery operating in the western and central Pacific Ocean (WCPO). Regulations at 50 CFR 300.223(a) currently limit U.S. WCPO purse seine fishing effort in a combined area of the high seas and U.S. exclusive economic zone (EEZ). Based on recent decisions of the Commission for the Conservation and Management of Highly Migratory Fish Stocks in the Western and Central Pacific Ocean, this rulemaking would implement separate U.S. WCPO purse seine fishing effort limits for the high seas and U.S. EEZ. This rulemaking could have some economic effects on U.S. purse seine vessels, as the separate effort limits would reduce the operational flexibility provided by the combined effort limits. This rulemaking could also have some economic effects on American Samoa, as the separate limits could lead to a fishery closure earlier in the year than under the combined limits, which could reduce fish supply to the cannery based in American Samoa. Other elements of this rulemaking include modifications to the process for closing the fishery once an effort limit is reached, and modifications to the procedures for obtaining daily purse seine fishing effort reports.

Timetable:

Action | Date | FR Cite
NPRM | 09/12/22 | 87 FR 55768
NPRM Comment Period End | 10/03/22
Final Action | 11/00/23

Regulatory Flexibility Analysis Required: Yes.

Agency Contact: Sarah Malloy, Acting Regional Administrator, Pacific Islands Region, Department of Commerce, National Oceanic and Atmospheric Administration, 1845 Wasp Boulevard, Building 176, Honolulu, HI 96818, Phone: 808 725-5000, Email: sarah.malloy@noaa.gov.

RIN: 0648-BL25

281. Amendment 51 to the Fishery Management Plan for the Snapper-Grouper Fishery of the South Atlantic Region (Amendment 51) [0648-BM03]

Legal Authority: 16 U.S.C. 1801 et seq.

Abstract: NMFS is developing a final rule to implement Amendment 51. Amendment 51 and the rule will modify management of South Atlantic snowy grouper. Actions will revise annual catch limits, sector allocations, and the fishing season and accountability measures for the recreational sector. Amendment 51 and the rule will end overfishing of South Atlantic snowy grouper, continue to rebuild the stock, and achieve optimum yield while minimizing, to the extent practicable, adverse social and economic effects.

Timetable:

Action | Date | FR Cite
NPRM | 05/30/23 | 88 FR 34460
NPRM Comment Period End | 06/29/23
Final Action | 11/00/23

Regulatory Flexibility Analysis Required: Yes.

Agency Contact: Andrew J. Strelcheck, Regional Administrator, Southeast Region, Department of Commerce, National Oceanic and Atmospheric Administration, 263 13th Avenue South, St. Petersburg, FL 33701, Phone: 727 824-5305, Email: andy.strelcheck@noaa.gov.

RIN: 0648-BM03

DEPARTMENT OF COMMERCE (DOC)

National Oceanic and Atmospheric Administration (NOAA)

Long-Term Actions

National Marine Fisheries Service

282. Magnuson-Stevens Fisheries Conservation and Management Act; Traceability Information Program for Seafood [0648-BH87]

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking will establish permitting, reporting and recordkeeping requirements for domestic producers of shrimp and abalone from the point of production to entry into commerce.

Timetable:

Action | Date | FR Cite
NPRM | 10/11/18 | 83 FR 51426
NPRM Comment Period End | 11/26/18 |
Final Action | To Be Determined

Regulatory Flexibility Analysis Required: Yes.

Agency Contact: Alexa Cole, Phone: 301 427-8286, Email: alexa.cole@noaa.gov.

RIN: 0648-BH87

283. Seafood Import Permitting and Reporting Procedures [0648-BK85]

Legal Authority: 16 U.S.C. 1801 et seq.

Abstract: NMFS amends the regulations that require seafood import documentation under the Magnuson-Stevens Fishery Conservation and Management Act (16 U.S.C. 1801 et seq.). The statute prohibits the importation of seafood that was harvested in violation of foreign laws, any treaty, or binding conservation measures of regional fisheries organizations to which the United States is a party. The import permitting, reporting and recordkeeping regulations facilitate enforcement of the statutory prohibition. To ensure compliance with the import monitoring program, NMFS clarifies what qualifies as the U.S. resident business address of the International Fisheries Trade Permit holder and the permit holder's obligation to ensure timely access to and production of the required supply chain records in the event of an audit NMFS also intends to include additional species under the program, such as expanding currently listed single-species to species groups and adding new species. U.S. seafood importers are likely to be affected by this rulemaking through increased reporting and recordkeeping requirements, but NOAA estimates the economic impact will be small because documentation is already completed, transmitted through the supply chain, and available to importers.

Timetable:

Action | Date | FR Cite
NPRM | 12/28/22 | 87 FR 79836
NPRM Comment Period End | 03/28/23
NPRM Comment Period Extension | 03/31/23 | 88 FR 19236
NPRM Comment Period Extension End | 04/27/23
Final Action | To Be Determined

Regulatory Flexibility Analysis Required: Yes.

Agency Contact: Alexa Cole, Phone: 301 427-8286, Email: alexa.cole@noaa.gov.

RIN: 0648-BK85

284. Rulemaking To Modify the 2023-2027 Halibut Individual Fishing Quota (IFQ) Vessel Harvest Limitations in IFQ Regulatory Areas 4A, 4B, 4C, and 4D [0648-BM18]

Legal Authority: 16 U.S.C. 773

Abstract: Commercial halibut fishing off the coast of Alaska is managed under an Individual Fishing Quota (IFQ) program implemented by Federal regulations under the authority of the Northern Pacific Halibut Act of 1982, 16 U.S.C. 773 et seq. On February 10, 2023, the North Pacific Fishery Management Council (Council) recommended to temporarily remove IFQ halibut vessel caps for the 2023-2027 fishing years in IFQ regulatory areas 4A (Eastern Aleutian Islands), 4B (Central and Western Aleutian Islands), 4C (Central Bering Sea), and 4D (Eastern Bering Sea). This action is needed to provide continued flexibility and consistency in the Pacific halibut fishery. This action would implement the temporary management measure that has been recommended by the Council and implemented by NMFS annually since 2020 for a 5-year period. This action would revise 50 CFR 679.42(h)(1) to remove vessels caps in those four areas for the 2023-2027 fishing year. This temporary action would provide consistency for fishery participants over the next five years, while the Council develops a long-term solution to modify vessel use caps in Area 4. Halibut IFQ holders with quota share in those four areas would be affected by this action, as well as Community Quota Entities in area 4B. This action would not modify any other aspects of the IFQ Program. Section 773c(c) of the Northern Pacific Halibut Act is the rulemaking authority.

Timetable:

Action | Date | FR Cite
NPRM | 05/11/23 | 88 FR 30272
NPRM Comment Period End | 06/12/23
Final Action | 07/26/23 | 88 FR 48137
Final Action Effective | 07/26/23
Next Action Undetermined | To Be Determined

Regulatory Flexibility Analysis Required: Yes.

Agency Contact: Jon Kurland, Phone: 907 586-7638, Email: jon.kurland@noaa.gov.

RIN: 0648-BM18

DEPARTMENT OF COMMERCE (DOC)

National Oceanic and Atmospheric Administration (NOAA)

Completed Actions

285. Amendment 14 to the Fishery Management Plan for the Salmon Fisheries in the EEZ Off Alaska [0648-BK31]

Legal Authority: 16 U.S.C. 1801 et seq.

Abstract: This action would modify the Fishery Management Plan for the Salmon Fisheries in the EEZ off Alaska (FMP) and implement regulations to manage the EEZ waters of Cook Inlet under the FMP and prohibit commercial fishing for salmon in this area. Currently, this area is excluded from the FMP and the State of Alaska manages commercial fishing for salmon in this area. If approved, this action would result in all commercial salmon fishing in Cook Inlet occurring within waters of the State of Alaska under State management plans. The North Pacific Fishery Management Council (Council) determined that this action is consistent with the Council's longstanding policy to facilitate management of salmon fishing by the State of Alaska and that the State is the authority best suited for managing Alaska salmon fisheries given its existing infrastructure and expertise. The Council considered, but did not select, two other action alternatives that would delegate management of the Cook Inlet EEZ to the State of Alaska or establish Council and NMFS management of the commercial salmon fishery within the area. The Council did not select either of these alternatives because the State of Alaska was unwilling to accept delegation of management authority, and due to the substantial increase in management complexity and cost without corresponding benefits of both alternatives.

Timetable:

Action | Date | FR Cite
NPRM | 06/04/21 | 86 FR 29977
NPRM Comment Period End | 07/06/21
Final Action | 11/03/21 | 86 FR 60568
Final Action Effective | 12/03/21

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BK31

286. Amendment 122 to the Fishery Management Plan for Groundfish of the Bering Sea and Aleutian Islands Management Area; Pacific Cod Trawl Cooperative Program [0648-BL08]

Legal Authority: 16 U.S.C. 1801 et seq.

Abstract: In response to a recommendation by the North Pacific Fishery Management Council, this action implements Amendment 122 to the Fishery Management Plan (FMP) for Groundfish of the Bering Sea and Aleutian Islands Management Area (BSAI), and the Pacific cod Trawl Cooperative Program (PCTC Program) which allocates quota share (QS) to groundfish License Limitation Program (LLP) license holders based on the harvest of BSAI Pacific cod during qualifying years. This Program also allocates QS to a processor permit holder based on processing history during the qualifying years. QS allocated under this program yields an exclusive harvest privilege to members of a PCTC Program cooperative. The Council's intent in recommending Amendment 122 and the PCTC Program is to improve the prosecution of the fishery by promoting safety and stability in the harvesting and processing sectors, increasing the value of the fishery, minimizing bycatch to the extent practicable, providing for the sustained participation of fishery dependent communities, and ensuring the sustainability and viability of the Pacific cod resource in the BSAI. The Council initiated action on this Limited Access Privilege Program (LAPP) in response to industry requests to address increasing inefficiency in the BSAI Pacific cod trawl catcher vessel sector by implementing a catch share program. Owners and operators of harvesters and processors that participate in the BSAI Pacific cod trawl fishery would be affected by this action. Section 304(b)(1)(A) of the Magnuson-Stevens Fishery Conservation and Management Act (MSA) is the rulemaking authority. Section 303A of the MSA authorizes the creation of LAPPs. The final rule included an incorrect cross reference and inadvertently left out two footnotes in a table and a correction notice fixed these errors.

Timetable:

Action | Date | FR Cite
NPRM | 02/09/23 | 88 FR 8592
NPRM Comment Period End | 03/13/23
Final Action | 08/08/23 | 88 FR 53704
Correction | 08/22/23 | 88 FR 57009
Final Action Effective | 09/07/23

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BL08

287. Atlantic Coastal Fisheries Cooperative Management Act Provisions; American Lobster Fishery; Consideration of Expanded Harvester and Biological Sampling Requirements for American Lobster [0648-BF01]

Legal Authority: 16 U.S.C. 5101 et seq.

Abstract: In response to recommendations by the Atlantic States Marine Fisheries Commission, this rulemaking action will cap and reduce individual and aggregate trap caps in the Offshore Area 3 lobster fishery and cap the number of permits a permit holder may have in nearshore Area 2. It also implements components of the Commission's Addendum XXVI to the American Lobster Management Plan. Among other things, the Addendum requires the lobster harvesting states to implement a trip-level reporting requirement with expanded data elements for all lobster fishermen in their respective jurisdictions, and recommends complementary action for Federal lobster permit holders. We will implement the mandatory trip-level harvester reporting requirement through this action. Finally, this action also makes some minor administrative changes to the lobster trap transfer program, considers allowing the use of a substitute vessel to tend lobster gear in certain circumstances, and removes some outdated text from the Federal lobster regulation at 50 CFR 697.

Timetable:

Action | Date | FR Cite
ANPRM | 11/15/17 | 82 FR 52871
ANPRM Comment Period End | 12/15/17
Second ANPRM | 06/14/18 | 83 FR 27747
Second ANPRM Comment Period End | 07/16/18
NPRM | 07/11/22 | 87 FR 41084
NPRM Comment Period End | 08/10/22
Interim Final Rule | 10/02/23 | 88 FR 67667
Interim Final Rule Effective | 11/01/23

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BF01

288. Atlantic Highly Migratory Species; Atlantic Bluefin Tuna General Category Restricted-Fishing Days for 2023 [0648-BL94]

Legal Authority: 16 U.S.C. 1801 et seq.; 16 U.S.C. 971 et seq.

Abstract: Atlantic tunas are managed under the authority of the Magnuson-Stevens Fishery Conservation and Management Act, 16 U.S.C. 1801 et seq., and the Atlantic Tunas Convention Act (ATCA), id. 971 et seq., the implementing statute for the International Commission for the Conservation of Atlantic Tunas. This temporary final action established a schedule of restricted-fishing days (RFDs) for all Tuesdays, Fridays, and Saturdays from July 1 through November 20, 2023. On an RFD, vessels permitted in the Atlantic Tunas General category are prohibited from fishing for, including catch-and-release and tag-and-release fishing, possessing, retaining, landing, or selling Atlantic bluefin tuna of all sizes. RFDs also apply to HMS Charter/Headboat permitted vessels when fishing commercially, but do not preclude such vessels from recreational fishing activity (under applicable Angling category regulations), including catch-and-release and tag-and-release fishing. This action was taken pursuant to the rulemaking authority under section 304(c) of the Magnuson-Stevens Fishery Conservation and Management Act. 16 U.S.C. 1855(d).

Timetable:

Action | Date | FR Cite
NPRM | 03/06/23 | 88 FR 13771
NPRM Comment Period End | 04/05/23
Final Action | 05/25/23 | 88 FR 33839
Final Action Effective | 07/01/23

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BL94

289. Fish Aggregating Device Design Requirements in Purse Seine Fisheries, IMO Number Requirements, and Bycatch Restrictions [0648-BI79]

Legal Authority: 16 U.S.C. 6901 et seq.

Abstract: This final rule implements recent decisions adopted by the Western and Central Pacific Fisheries Commission, to which the United States is a member. Specifically, the final rule implements fish aggregating device design requirements for U.S. purse seine fishing vessels, expands requirements for U.S. fishing vessel owners to obtain numbers issued under the ship identification number scheme established by the International Maritime Organization, and implements bycatch restrictions for sharks and rays.

Timetable:

Action | Date | FR Cite
NPRM | 10/07/21 | 86 FR 55790
NPRM Comment Period End | 11/08/21
Final Action | 05/12/23 | 88 FR 30671
Final Action Effective | 06/12/23

Regulatory Flexibility Analysis Required: Yes.

Agency Contact: Sarah Malloy, Acting Regional Administrator, Pacific Islands Region, Department of Commerce, National Oceanic and Atmospheric Administration, 1845 Wasp Boulevard, Building 176, Honolulu, HI 96818, Phone: 808 725-5000, Email: sarah.malloy@noaa.gov.

RIN: 0648-BI79

290. Interim Measures To Reduce Overfishing of Gulf of Mexico Gag [0648-BL89]s

Legal Authority: 16 U.S.C. 1801 et seq.

Abstract: Gulf of Mexico (Gulf) gag is managed under the Fishery Management Plan for Reef Fish Resources of the Gulf of Mexico and the most recent stock assessment indicates that Gulf gag is overfished and is undergoing overfishing. The National Marine Fishery Service is implementing interim measures to reduce overfishing, as recommended by the Gulf of Mexico Fishery Management Council (Council), while the Council develops a plan amendment to end overfishing and rebuild the Gulf gag stock. The interim measures would reduce the Gulf gag catch limits consistent with one alternative the Council is considering in the plan amendment under development. The interim measures would also modify the recreational season start date in 2023 to increase the projected season length.

Timetable:

Action | Date | FR Cite
NPRM Temporary Rule | 02/03/23 | 88 FR 7388
NPRM Temporary Rule Comment Period End | 02/21/23
Final Temporary Rule Action | 05/03/23 | 88 FR 27701
Final Action Effective | 05/03/23
Final Temporary Rule Extension | 10/06/23 | 88 FR 69553
Final Temporary Rule Extension End | 05/02/24

Regulatory Flexibility Analysis Required: Yes.

Agency Contact: Andrew J. Strelcheck, Regional Administrator, Southeast Region, Department of Commerce, National Oceanic and Atmospheric Administration, 263 13th Avenue South, St. Petersburg, FL 33701, Phone: 727 824-5305, Email: andy.strelcheck@noaa.gov.

RIN: 0648-BL89

291. Amendment 54 to the Fishery Management Plan for the Reef Fish Resources of the Gulf of Mexico: Modifications to the Greater Amberjack Catch Limits, Sector Allocation, and Rebuilding Plan [0648-BM00]

Legal Authority: 16 U.S.C. 1801 et seq.

Abstract: Reef Fish Amendment 54 and the final rule would modify the Gulf greater amberjack overfishing limit, acceptable biological catch, and sector annual catch limits and annual catch targets based on the most recent stock assessment (Southeast Data Assessment and Review 70), which indicated that the stock continued to be overfished and undergoing overfishing, and recommendations from the Gulf of Mexico Fishery Management Council's Scientific and Statistical Committee. The stock assessment included historical recreational catch and effort data adjusted to be consistent with the Marine Recreational Information Program (MRIP) Fishing Effort Survey (FES), which replaced the MRIP Coastal Household Telephone Survey (CHTS) in 2018. Landings estimates generated using MRIP-FES are generally greater than those generated using MRIP-CHTS. Reef Fish Amendment 54 also modifies the allocation between the commercial and recreational sectors using the MRIP-FES adjusted landing estimates on a more recent time series (1993-2019) than the previous allocation (1981-2004) and only includes years after greater amberjack was identified to species. The need for this action is to end overfishing and rebuild the greater amberjack stock as required by the Magnuson-Stevens Fishery Conservation and Management Act, update existing greater amberjack catch limits and allocations to be consistent with best scientific information available, FMP objectives, and contemporary data collection methods.

Timetable:

Action | Date | FR Cite
NPRM | 03/10/23 | 88 FR 14964
NPRM Comment Period End | 04/10/23
Final Action | 06/15/23 | 88 FR 39193
Final Action Effective | 07/17/23

Regulatory Flexibility Analysis Required: Yes.

Agency Contact: Andrew J. Strelcheck, Regional Administrator, Southeast Region, Department of Commerce, National Oceanic and Atmospheric Administration, 263 13th Avenue South, St. Petersburg, FL 33701, Phone: 727 824-5305, Email: andy.strelcheck@noaa.gov.

RIN: 0648-BM00

292. Amendment 53 to the Fishery Management Plan for the Snapper-Grouper Fishery of the South Atlantic Region (Amendment 53) [0648-BM27]

Legal Authority: 16 U.S.C. 1801 et seq.

Abstract: NMFS is developing a proposed rule to implement Amendment 53. The rule will modify management of South Atlantic gag and black grouper. Because gag is overfished and undergoing overfishing, actions for gag include establishing a rebuilding plan, revising annual catch limits, sector allocations, management measures, and recreational accountability measures. Amendment 53 would also modify recreational management measures for black grouper. Amendment 53 and the proposed rule would end overfishing of South Atlantic gag, rebuild the stock, and achieve optimum yield while minimizing, to the extent practicable, adverse social and economic effects.

Timetable:

Action | Date | FR Cite
NPRM | 07/13/23 | 88 FR 44764
NPRM Comment Period End | 08/14/23
Final Action | 09/21/23 | 88 FR 65135
Final Action Effective | 10/23/23

Regulatory Flexibility Analysis Required: Yes.

Agency Contact: Andrew J. Strelcheck, Regional Administrator, Southeast Region, Department of Commerce, National Oceanic and Atmospheric Administration, 263 13th Avenue South, St. Petersburg, FL 33701, Phone: 727 824-5305, Email: andy.strelcheck@noaa.gov.

RIN: 0648-BM27

293. Regulatory Amendment to the Pacific Coast Groundfish Fishery Management Plan To Implement an Electronic Monitoring Program for Bottom Trawl and Non-Whiting Midwater Trawl Vessels [0648-BH70]

Legal Authority: 16 U.S.C. 1801 et seq.

Abstract: The action implements a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action intends to increase operational flexibility and reduce monitoring costs for the fleet.

Timetable:

Action | Date | FR Cite
NPRM | 03/01/22 | 87 FR 11382
NPRM Comment Period End | 03/31/22
Final Action | 10/03/22 | 87 FR 59705
Final Action Effective | 11/02/22

Regulatory Flexibility Analysis Required: Yes.

Agency Contact: Jennifer Quan, Regional Administrator—West Coast Region, Department of Commerce, National Oceanic and Atmospheric Administration, DC 20230, Phone: 562 980-4001, Email: jennifer.quan@noaa.gov.

RIN: 0648-BH70

294. 2023 Pacific Whiting Harvest Specifications and Interim Tribal Allocation; Pacific Coast Groundfish [0648-BM07]

Legal Authority: 16 U.S.C. 1801 et seq.

Abstract: Through this rulemaking, NMFS sets the U.S. Total Allowable Catch (TAC) level based on the coastwide TAC determined under the terms of the Agreement with Canada on Pacific Hake/Whiting (Agreement) and the Pacific Whiting Act of 2006 (Whiting Act); the interim allocation for the tribal fishery; the fishery harvest guideline (HG), called the non-tribal allocation, for three commercial whiting sectors; and set-asides for research and bycatch. As in prior years, the interim tribal allocation is not intended to set a precedent for future years. This action will be implemented pursuant to the rulemaking authority under the Magnuson-Stevens Fishery Conservation and Management Act (MSA) 304(b) (Regulations Deemed Necessary by Council) and MSA section 305(d) (Secretarial authority), and the Pacific Whiting Act of 2006. Pursuant to MSA section 305(d), this action is necessary to ensure that the Pacific Coast Groundfish Fishery Management Plan is implemented in a manner consistent with treaty rights of four treaty tribes to fish in their usual and accustomed grounds and stations in common with non-tribal citizens. United States v. Washington, 384 F. Supp. 313 (W.D. Wash. 1974).

Timetable:

Action | Date | FR Cite
NPRM | 04/06/23 | 88 FR 20457
NPRM Comment Period End | 04/21/23
Final Action | 05/31/23 | 88 FR 34783
Final Action Effective | 05/31/23

Regulatory Flexibility Analysis Required: Yes.

Agency Contact: Jennifer Quan, Regional Administrator—West Coast Region, Department of Commerce, National Oceanic and Atmospheric Administration, DC 20230, Phone: 562 980-4001, Email: jennifer.quan@noaa.gov.

RIN: 0648-BM07

DEPARTMENT OF COMMERCE (DOC)

Patent and Trademark Office (PTO)

Proposed Rule Stage

295. Setting and Adjusting Patent Fees [0651-AD64]

Regulatory Plan: This entry is Seq. No. 17 in part II of this issue of the Federal Register.

RIN: 0651-AD64

296. Setting and Adjusting Trademark Fees [0651-AD65]

Regulatory Plan: This entry is Seq. No. 18 in part II of this issue of the Federal Register.

RIN: 0651-AD65

[FR Doc. 2024-00451 Filed 2-8-24; 8:45 am]

BILLING CODE 3410-12-P